DEPARTMENT OF ENERGY

Federal Energy Regulatory Commission

[Docket No. CP20-481-000]

Rio Bravo Pipeline Company, LLC; Notice of Schedule for Environmental Review of the Rio Bravo Pipeline Project Amendment

On June 16, 2020, Rio Bravo Pipeline Company, LLC (RB Pipeline) filed an application in Docket No. CP20-481-000 requesting to amend the Certificate of Public Convenience and Necessity pursuant to Section 7(c) of the Natural Gas Act granted by the Federal Energy Regulatory Commission (Commission or FERC) for the Rio Bravo Pipeline Project in Docket No. CP16-455-000. The proposed project is known as the Rio Bravo Pipeline Project Amendment (Project Amendment), and RB Pipeline proposes to modify the pipeline facilities that will transport natural gas to Rio Grande LNG, LLC's previously approved (but not yet constructed) liquefied natural gas (LNG) Terminal in Cameron County, Texas.

On June 25, 2020, the Commission issued its Notice of Application for the Project Amendment. Among other things, that notice alerted agencies issuing federal authorizations of the requirement to complete all necessary reviews and to reach a final decision on a request for a federal authorization within 90 days of the date of issuance of the Commission staff's Environmental Assessment (EA) for the Project Amendment. This instant notice identifies the FERC staff's planned schedule for the completion of the EA for the Project Amendment.

Schedule for Environmental Review

Issuance of EA—November 16, 2020

90-day Federal Authorization Decision Deadline—February 15, 2021

If a schedule change becomes necessary, additional notice will be provided so that the relevant agencies are kept informed of the Project Amendment's progress.

Project Description

RB Pipeline proposes to modify the pipeline system facilities approved in the Commission's Order Granting Authorizations under Sections 3 and 7 of the Natural Gas Act (Order) issued on November 22, 2019. The Rio Bravo Pipeline Project, as authorized, consists of a 2.4-mile-long, 42-inch-diameter pipeline, including 0.8 mile of dual pipeline (referred to as the Header System) in Kleber and Jim Wells Counties, Texas; 135.5 miles of parallel 42-inch-diameter mainline pipelines originating in Kleberg County and terminating at Rio Grande LNG, LLC's Rio Grande LNG Terminal in Cameron County (referred to as Pipelines 1 and 2); four metering sites along the Header System; two interconnect booster compressor stations, each with a metering site; three compressor stations (one at the Rio Grande LNG Terminal); and other associated utilities, systems, and facilities, all in Texas. As part of the Project Amendment, RB Pipeline proposes various facility modifications to the authorized pipeline system:

• Decrease the maximum allowable operating pressure (MAOP) of the 2.4-mile-long Header System pipeline from 1,480 pounds per square inch gauge (psig) to 1,200 psig;

• construct an extension of 0.2 mile of mainline pipeline for each of Pipelines 1 and 2 for a total of 135.7 miles each;

• increase the diameter of Pipeline 1 from 42 inches to 48 inches and increase the MAOP of both pipelines from 1,480 psig to 1,825 psig (Pipeline 2 will remain a 42-inch-diameter pipeline); and

• increase the transportation capacity of Pipeline 1 from 2.25 billion cubic feet per day (Bcf/d) to 2.6 Bcf/d, and decrease the transportation capacity of Pipeline 2 from 2.25 Bcf/d to 1.9 Bcf/d, resulting in the total authorized capacity of 4.5 Bcf/d remaining unchanged from the authorized pipeline system.

The Project Amendment also includes modifications to the following aboveground facilities that are authorized (but unbuilt) along the Rio Bravo Pipeline Project right-of-way:

• Eliminate Compressor Station 2 in Kenedy County;

• eliminate Compressor Station 3 within the Rio Grande LNG Terminal in Cameron County, except for a meter and other ancillary facilities within the LNG Terminal;

• eliminate all facilities associated with Booster Stations 1 and 2, including related meter stations, in Kenedy County; and

• increase the horsepower (hp) at Compressor Station 1 from 180,000 hp to 282,000 hp by switching from six 30,000-hp natural gas compressor units to four 43,000-hp natural gas compressor units and two 55,000-hp compressor units.

Background

On July 28, 2020, the Commission issued a Notice of Intent to Prepare an Environmental Assessment for the Proposed Rio Bravo Pipeline Project Amendment and Request for Comments on Environmental Issues (NOI). The NOI was sent to affected landowners; federal, state, and local government agencies; elected officials; environmental and public interest groups; Native American tribes; other interested parties; and local libraries and newspapers. In response to the NOI, the Commission received seven comments from the public. The primary issues raised to date, including responses to the Commission's June 25, 2020 Notice of Application for the Project Amendment, are public benefit of the project, wetland impacts, impacts on fishing and birding, systems alternatives, pipeline safety, air quality and noise impacts, tribal consultation, cumulative impacts, and climate change. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project Amendment is available from the Commission's Office of External Affairs at (866) 208-FERC or on the FERC website (www.ferc.gov). Using the “eLibrary” link, select “General Search” from the eLibrary menu, enter the selected date range and “Docket Number” excluding the last three digits (i.e., CP20-481), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 14, 2020.
Kimberly D. Bose,
Secretary.

[FR Doc. 2020-18267 Filed 8-19-20; 8:45 am]

BILLING CODE 6717-01-P